DEPARTMENT OF THE TREASURY

Internal Revenue Service

26 CFR Parts 53 and 54

[TD 9334]

RIN 1545-BG95

Requirement of Return and Time for Filing; Correction

AGENCY: Internal Revenue Service (IRS), Treasury.

ACTION: Correction notice.

SUMMARY: This document contains a correction to final and temporary regulations (TD 9334) that were published in the Federal Register on Friday, July 6, 2007 (72 FR 36871) providing guidance relating to the requirement of a return to accompany payment of excise taxes under section 4965 of the Internal Revenue Code and the time for filing that return.

DATES: The correction is effective August 31, 2007.

FOR FURTHER INFORMATION CONTACT: Galina Kolomietz, (202) 622-6070, Michael Blumenfeld, (202) 622-1124, or Dana Barry, (202) 622-6060 (not toll-free numbers).

SUPPLEMENTARY INFORMATION:

Background

The final and temporary regulations that are the subject of the correction are under Section 4965 of the Internal Revenue Code.

Need for Correction

As published, final and temporary regulations (TD 9334) contain an error that may prove to be misleading and is in need of clarification.

Correction of Publication

Accordingly, the publication of the final and temporary regulations (TD 9334), which were the subject of FR Doc. E7-12901, is corrected as follows:

On page 36781, in the document heading, the language “RIN 1545-BG20” is corrected to read “RIN 1545-BG95”.

LaNita Van Dyke,
Chief, Publications and Regulations Branch, Legal Processing Division, Associate Chief Counsel, (Procedure and Administration).

[FR Doc. E7-17227 Filed 8-30-07; 8:45 am]

BILLING CODE 4830-01-P